DEPARTMENT OF COMMERCE

National Oceanic and Atmospheric Administration

RIN: 0648-XR26

New England Fishery Management Council; Public Meeting

AGENCY: National Marine Fisheries Service (NMFS), National Oceanic and Atmospheric Administration (NOAA), Commerce

ACTION: Notice of a public meeting.

SUMMARY: The New England Fishery Management Council (Council) is scheduling a public meeting of its Scientific and Statistical Committee on September 16, 2009 to consider actions affecting New England fisheries in the exclusive economic zone (EEZ). Recommendations from this group will be brought to the full Council for formal consideration and action, if appropriate.

DATES: This meeting will be held on Wednesday, September 16, 2009 at 9:30 a.m.

ADDRESSES: The meeting will be held at the Crowne Plaza Hotel, 801 Greenwich Avenue, Warwick, RI 02886; telephone: (401) 732-6000; fax: (401) 739-5715.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Scientific and Statistical Committee (SSC) will meet to finalize ABCs for herring and red crab, correct the skate complex ABC and begin the development of 2010-2014 research recommendations. Specifically, the SSC will review the available information provided by the Herring Plan Development Team (PDT) and develop a recommendation regarding the specification of acceptable biological catch (ABC) for the 2010-2012 fishing years, as well as an ABC control rule; review the available information provided by the Red Crab PDT and develop recommendations specifying ABC for the 2010 fishing year, as well as an ABC control rule for future years; correct the 2010-11 skate complex ABC to be included in Amendment 3 to the Skate FMP (the recalculation will include the 2008 spring survey values for little skate); and discuss materials and tasking to update NEFMC research recommendations for 2010-2014.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 27, 2009.
Tracey L. Thompson,
Acting Director, Office of Sustainable Fisheries, National Marine Fisheries Service.

[FR Doc. E9-21012 Filed 8-31-09; 8:45 am]

BILLING CODE 3510-22-S